ENVIRONMENTAL PROTECTION AGENCY

[EPA-HQ-OPP-2009-0191; FRL-8407-7]

Organic Arsenicals; Amendment to Reregistration Eligibility Decision

AGENCY: Environmental Protection Agency (EPA).

ACTION: Notice.

SUMMARY: This notice announces EPA's decision to modify certain provisions of the 2006 Reregistration Eligibility Decision (RED) for the organic arsenical pesticides monosodium methanearsonate (MSMA), disodium methanearsonate (DSMA), calcium acid methanearsonate (CAMA), and cacodylic acid and its sodium salt. EPA has reached an agreement in principle with the technical registrants of these pesticides to implement the 2006 RED, which is being revised in part under the terms of the agreement for these pesticides. The Agency's revisions to the organic arsenicals RED reflect public comments received during the comment period on the RED and new data and information submitted by the registrants and other stakeholders.

FOR FURTHER INFORMATION CONTACT: Tom Myers, Special Review and Reregistration Division (7508P), Office of Pesticide Programs, Environmental Protection Agency, 1200 Pennsylvania Ave., NW., Washington, DC 20460-0001; telephone number: (703) 308-8589; fax number: (703) 308-8005; e-mail address: myers.tom@epa.gov.

SUPPLEMENTARY INFORMATION:

I. General Information

A. Does This Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of This Document and Other Related Information?

1. Docket. EPA has established a docket for this action under docket identification (ID) number EPA-HQ-OPP-2009-0191. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action Is the Agency Taking?

Section 4 of the Federal Insecticide, Fungicide, and Rodenticide Act (FIFRA) directs EPA to reevaluate existing pesticides to ensure that they meet current scientific and regulatory standards. In 2006, EPA issued a RED for the organic arsenicals MSMA, DSMA, CAMA, and cacodylic acid and its sodium salt under section 4(g)(2)(A) of FIFRA. In response to a notice of availability published in the Federal Register on August 9, 2006 (71 FR 45554) (FRL-8085-9), the Agency received substantive comments and new data and information from commenters including the technical registrants. The Agency's response to comments is available for viewing in the public docket. EPA and the technical registrants of these pesticides reached an agreement in principle in January 2009 to implement the RED as revised in part under the terms of the agreement. The RED amendment reflects changes resulting from Agency consideration of the comments and new data and information received, as well as the terms of the agreement in principle. The RED amendment for the organic arsenicals concludes EPA's reregistration eligibility decision-making process for these pesticides.

The label table incorporated into the organic arsenicals RED amendment includes modifications which specify label language for the uses of MSMA.

B. What Is the Agency's Authority for Taking This Action?

Section 4(g)(2) of FIFRA, as amended, directs that, after submission of all data concerning a pesticide active ingredient, “the Administrator shall determine whether pesticides containing such active ingredient are eligible for reregistration,” before calling in product specific data on individual end-use products and either reregistering products or taking other “appropriate regulatory action.”

List of Subjects

Environmental protection, Pesticides and pests.

Dated: March 25, 2009.
Richard P. Keigwin, Jr.,
Director, Special Review and Reregistration Division, Office of Pesticide Programs.

[FR Doc. E9-10330 Filed 5-5-09; 8:45 am]

BILLING CODE 6560-50-S